DEPARTMENT OF DEFENSE

Department of the Navy

Notice of Intent To Grant Partially Exclusive Patent License; Smartband Technologies, Inc.

AGENCY: Department of the Navy, DOD.

ACTION: Notice.

SUMMARY: The Department of the Navy hereby gives notice of its intent to grant to Smartband Technologies, Inc. a revocable, nonassignable, partially exclusive license to practice in the United States, the Government-Owned inventions described in U.S. Patent No. 5,963,169, Multiple Tube Plasma Antenna, issued October 5, 1999; U.S. Patent No. 6,118,407, Horizontal Plasma Antenna Using Plasma Drift Currents, issued September 12, 2000; U.S. Patent No. 6,169,520, Plasma Antenna With Currents Generated By Opposed Photon Beams, issued January 2, 2001; U.S. Patent No. 6,087,992, Acoustically Driven Plasma Antenna, issued July 11, 2000; U.S. Patent No. 6,046,705, Standing Wave Plasma Antenna With Plasma Reflector, issued April 4, 2000; U.S. Patent No. 6,087,993, Plasma Antenna with Electro-Optical Modulator issued, July 11, 2000; U.S. Patent No. 6,674,970, Plasma Antenna With Two-Fluid Ionization Current, issued January 6, 2004; U.S. Patent No. 6,650,297, Laser Driven Plasma Antenna Utilizing Laser Modified Maxwellian Relaxation, issued November 18, 2003; U.S. Patent No. 6,657,594, Plasma Antenna System and Method issued December 2, 2003; and U.S. Patent No. 6,806,833, Confined Plasma Resonance Antenna and Plasma Resonance Antenna Array, issued October 19, 2004.

DATES: Anyone wishing to object to the grant of this license has fifteen (15) days from the date of this notice to file written objections along with supporting evidence, if any.

ADDRESSES: Written objections are to be filed with the Naval Undersea Warfare Center Division, Newport, 1176 Howell St., Bldg 990/1, Code 105, Newport, RI 02841.

FOR FURTHER INFORMATION CONTACT: Dr. Theresa A. Baus, Technology Transfer Manager, Naval Undersea Warfare Center Division, Newport, 1176 Howell St., Bldg 990/1, Code 105, Newport, RI 02841, telephone 401-832-8728.

Authority: 35 U.S.C. 207, 37 CFR Part 404.

Dated: February 17, 2005.
I.C. Le Moyne Jr.,
Lieutenant, Judge Advocate General's Corps, U.S. Navy, Alternate Federal Register Liaison Officer.

[FR Doc. 05-3539 Filed 2-23-05; 8:45 am]

BILLING CODE 3810-FF-P